DEPARTMENT OF LABOR

Employment and Training Administration

[TA-W-54,698]

DePuy Casting, North Brunswick, NJ; Notice of Termination of Investigation

Pursuant to section 221 of the Trade Act of 1974, as amended, an investigation was initiated on April 9, 2004 in response to a petition filed by a company official on behalf of workers at DePuy Casting, North Brunswick, New Jersey.

The petitioner has requested that the petition be withdrawn. Consequently, further investigation would serve no purpose and the investigation has been terminated.

Signed in Washington, DC, this 23rd day of April 2004.
Linda G. Poole,
Certifying Officer, Division of Trade Adjustment Assistance.

[FR Doc. E4-1050 Filed 5-7-04; 8:45 am]

BILLING CODE 4510-30-P